DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: AZA Rhinoceros Advisory Group on behalf of Sedgwick County Zoo, Wichita, KS, PRT-042888.

The applicant requests a permit to import one female black rhinoceros (Dicornis bicornis) from the Yokohama Kanazawa Zoo, Japan, for the purpose of enhancement of propagation of the species through captive breeding.

Applicant: National Aviary in Pittsburgh, Pittsburgh, PA, PRT-040800.

The applicant requests a permit to export viable eggs of captive bred Manchurian crane (Grus japonensis) and white-naped crane (Grus vipio) for the purpose of enhancement of the survival of the species through captive breeding and re-introduction. This notification covers activities conducted by the applicant over the next 5 years.

Applicant: Gary Duane Gust, Cedar Springs, MI, PRT-043084.

The applicant requests a permit to import the sport-hunted trophy of one male bontebok (Damaliscus pygargus dorcas) culled from a captive herd maintained under the management program of the Republic of South Africa, for the purpose of enhancement of the survival of the species.

Applicant: James J. Moore, Ph.D., University of San Diego, PRT-039828.

The applicant request a permit to import biological samples of chimpanzee (Pan troglodytes) collected from the wild in Tanzania, for scientific research. This notification covers activities conducted by the applicant for a period of five years.

Applicant: Washington Regional Primate Research Center, Seattle, WA, PRT-029665.

The applicant requests a permit to import biological samples from orangutan (Pongo pygmaeus), siamang (Symphalangus syndactylus), and gibbons (Hylobates spp.) collected from captive-held and captive-born specimens in Indonesia, for scientific research. This notification covers activities conducted by the applicant over a five year period.

Applicant: Howard H. McCutchen, Hanlan, IA, PRT-043170.

The applicant requests a permit to import the sport-hunted trophy of one male bontebok (Damaliscus pygargus dorcas) culled from a captive herd maintained under the management program of the Republic of South Africa, for the purpose of enhancement of the survival of the species.

Applicant: Department of Geology & Geophysics, University of Utah, UT, PRT-043260.

The applicant requests a permit to import biological samples collected from wild yellow-footed rock wallabies (Petrogale xanthopus) in Australia for scientific research.

Applicant: Dr. Jennifer Pastorini, Dept. of Biology, Southwest Texas State University, TX, PRT-043202.

The applicant requests a permit to import biological samples from a collection currently held at the University of Zurich, Switzerland, for scientific research. The samples were collected from both wild and captive non-human primates and represent multiple species in the families Lepilemuridae, Daubentoniidae, Indridae, Cheirogaleidae, and Lemuridae.

Applicant: McCarthy Wildlife Sanctuary, FL, PRT-037668.

The applicant requests a permit to import one captive-born male cheetah (Acinonyx jubatus) from DeWildt Cheetah Research and Breeding Centre, South Africa, for the purpose of the enhancement of the survival of the species.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Applicant: Charles F. Mervar, Longmont, CO, PRT-043244.

The applicant requests a permit to import a polar bear (Ursus maritimus) sport-hunted from the Lancaster Sound polar bear population in Canada for personal use taken April, 2001.

Applicant: Vaughn Liljenquist, Glendale, AZ, PRT-043194.

The applicant requests a permit to import a polar bear (Ursus maritimus) sport-hunted from the Northern Beaufort Sea polar bear population in Canada for personal use taken April, 2001.

Applicant: Sead Dizdarevic, Far Hills, NJ, PRT-043241.

The applicant requests a permit to import a polar bear (Ursus maritimus) sport-hunted from the Norwegian Bay polar bear population in Canada for personal use taken May, 2001.

Applicant: Jay E. Link, Minong, WI, PRT-042006.

The applicant requests a permit to import a polar bear (Ursus maritimus) sport-hunted from the Lancaster Sound polar bear population in Canada for personal use taken April, 2001.

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: May 25, 2001.
Monica Farris,
Senior Biologist, Branch of Permits, Office of Management Authority.

[FR Doc. 01-14188 Filed 6-5-01; 8:45 am]

BILLING CODE 4310-55-P